DEPARTMENT OF EDUCATION

Notice of Proposed Information Collection Request

AGENCY: Department of Education.

SUMMARY: The Secretary of Education requests comments on the Free Application for Federal Student Aid (FAFSA) that the Secretary proposes to use for the 2010-2011 award year. The FAFSA is completed by students and their families, and the information submitted on the form is used to determine the students' eligibility and need for financial aid under the student financial assistance programs authorized under Title IV of the Higher Education Act of 1965, as amended (Title IV, HEA Programs).

The Department is committed to improving the federal student aid application process for individuals completing the Free Application for Federal Student Aid (FAFSA). Because 99 percent of student applicants opt to apply electronically, much of the Department's recent improvements have focused on FAFSA on the Web which maximizes the use of ‘skip logic’ and previously submitted FAFSA data, to dramatically reduce applicant's burden. For the 2010-2011 cycle FAFSA on the Web and the Pre-filled FAFSA will be further improved by the implementation of significant enhancements facilitated by a Web technology upgrade. The upgraded application will include new features, functionality and a level of user interaction that was not previously available. The Web site display and navigation will be much more dynamic and personalized.

For the one percent of FAFSA applicants who complete the paper FAFSA, the Department has simplified the application process by grouping like questions together; incorporating previously supplemental worksheets into the application; improving the layout of the form; and clearly delineating between student and parental questions. For those students who prefer to submit a paper FAFSA but do not have access to a pre-printed FAFSA form, the Department has created a FASFA PDF that can be downloaded from the Internet and completed, either on a PC or by hand, and mailed to the Department.

In addition, the Department has created numerous on-line and paper resources to assist students with the FAFSA process. The Web site Student Aid on the Web (http://www.studentaid.ed.gov) provides a vast array of student-centric information on researching colleges, finding scholarships, preparing academically, and applying for federal student assistance. The FAFSA4caster Web site (http://www.fafsa4caster.ed.gov) enables students to obtain an early estimate of their eligibility for federal student aid while increasing their knowledge of the financial aid process. FAFSA4caster users who opt to provide demographic information about themselves can later ‘pre-populate’ a FAFSA, thereby shortening the application completion time. Working with customers, stakeholders, partners and Congress, the Department will continue its commitment to further streamline the experience for FAFSA applicants in the future.

DATES: Interested persons are invited to submit comments on or before November 3, 2009.

ADDRESSES: Comments may be submitted electronically through e-mail to FAFSA.Comments@ed.gov. Requests for copies of the proposed information collection request may be accessed from http://edicsweb.ed.gov by selecting the “Browse Pending Collections” link and by clicking on link number 4120. When you access the information collection request, click on “Download Attachments” to view. Written requests for information should be addressed to U.S. Department of Education, 400 Maryland Avenue, SW., LBJ, Washington, DC 20202-4537. In addition, interested persons can access this information clearance request on the Internet:

(1) Go to IFAP at http://ifap.ed.gov

(2) Click on “Processing Resources”

(3) Click on “FAFSA and SAR Materials”

(4) Click on “2010-2011”

(5) Click on “Draft FAFSA Form/Instructions”

Please note that the free Adobe Acrobat Reader software, version 4.0 or greater, is necessary to view this file. This software can be downloaded for free from Adobe's Web site: http://www.adobe.com.

FOR FURTHER INFORMATION CONTACT: Individuals who use a telecommunications device for the deaf (TDD) may call the Federal Information Relay Service (FIRS) at 1-800-877-8339 between 8 a.m. and 8 p.m. Eastern time, Monday through Friday.

SUPPLEMENTARY INFORMATION: The Secretary is publishing this request for comment under the Provisions of the Paperwork Reduction Act of 1995, 44 U.S.C. 3501 et seq. Under that Act, ED must obtain the review and approval of the Office of Management and Budget (OMB) before it may use a form to collect information. However, under procedure for obtaining approval from OMB, ED must first obtain public comment of the proposed form, and to obtain that comment, ED must publish this notice in the Federal Register. In addition to comments requested above, to accommodate the requirements of the Paperwork Reduction Act, the Secretary is interested in receiving comments with regard to the following matters: (1) Is this collection necessary to the proper functions of the Department, (2) will this information be processed and used in a timely manner, (3) is the estimate of burden accurate, (4) how might the Department enhance the quality, utility, and clarity of the information to be collected, and (5) how might the Department minimize the burden of this collection on the respondents, including through the use of information technology.

Dated: August 31, 2009.
Angela C. Arrington,
IC Clearance Official, Regulatory Information Management Services, Office of Management.

Federal Student Aid

Type of Review: Revision.

Title: Free Application for Federal Student Aid (FAFSA).

Frequency: Annually.

Affected Public: Individuals or Households; Business or other for-profit; Not-for-profit.

Annual Reporting and Recordkeeping Hour Burden:

Responses: 21,696,675.

Burden Hours: 10,131,696.

Abstract: Section 483 of the Higher Education Act of 1965, as amended (HEA), requires the Secretary, in cooperation with agencies and organizations involved in providing student financial assistance, to produce, distribute and process free of charge a common financial reporting form to be used to determine the need and eligibility of a student for financial assistance under the Title IV, HEA Programs. This form is the FAFSA and applicants can apply either electronically or by paper. In addition, Section 483 authorizes the Secretary to include on the FAFSA non-financial data items that assist States in awarding State student financial assistance.

Requests for copies of the proposed FAFSA information collection request may be accessed from http://edicsweb.ed.gov, by selecting the “Browse Pending Collections” link and by clicking on link number 4120. Written requests for information on the proposed FAFSA should be addressed to U.S. Department of Education, 400 Maryland Avenue, SW., LBJ, Washington, DC 20202-4537. Requests may also be electronically mailed to ICDocketMgr@ed.gov or faxed to (202) 401-0920. Please specify the complete title of the information collection when making your request. Comments regarding burden and/or the collection activity requirements should be directed to the e-mail address ICDocketMgr@ed.gov. Individuals who use a telecommunications device for the deaf (TDD) may call the Federal Information Relay Service (FIRS) at 1-800-877-8339 between 8 a.m. and 8 p.m., Eastern time, Monday through Friday.

[FR Doc. E9-21483 Filed 9-3-09; 8:45 am]

BILLING CODE 4000-01-P